DEPARTMENT OF STATE

[Public Notice: 3966]

30-Day Notice of Proposed Information Collection: Form DS-3057, Medical Clearance Update; OMB Number 1405-0131

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement without change of a current collection.

Originating Office: Office of Medical Services, M/DGHR/MED.

Title of Information Collection: Medical Clearance Update.

Frequency: Biennially.

Form Number: DS-3057.

Respondents: Foreign Service Employees and Eligible Family Members.

Estimated Number of Respondents: 12,000.

Average Hours Per Response: 15 minutes.

Total Estimated Burden: 3,000 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION: Copies of the proposed information collection and supporting documents may be obtained from Kumiko Cross, FSHP, Office of Medical Services, 2401 E Street, NW., Room 201, U.S. Department of State, Washington, DC 20520. Public comments and questions should be directed to the State Department Desk Officer, Office of Information and Regulatory Affairs, Office of Management and Budget (OMB), Washington, DC 20530, who may be reached on 202-395-3897.

Dated: January 8, 2002.
Maria C. Melchiorre,
Acting Executive Director, Office of Medical Services, Department of State.

[FR Doc. 02-7805 Filed 3-29-02; 8:45 am]

BILLING CODE 4710-36-P